DEPARTMENT OF LABOR

Office of the Secretary

Submission for OMB Review: Comment Request

March 3, 2005.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Bureau of Labor Statistics (BLS), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Bureau of Labor Statistics.

Type of Review: New collection of information.

Title: Survey of Workplace Violence Prevention.

OMB Number: 1220-0NEW.

Frequency: One time.

Type of Response: Reporting.

Affected Public: Business of other for-profit; Not-for-profit institutions; farms; and State, Local, or Tribal Government.

Number of Respondents: 40,000.

Number of Annual Responses: 40,000.

Estimated Time Per Response: 20 minutes.

Total Burden Hours: 13,334.

Total Annualized capital/startup costs: $0.

Total Annual Costs (operating/maintaining systems or purchasing services): $0.

Description: The National Institute for Occupational Safety and Health and the Bureau of Labor Statistics, U.S. Department of Labor, have agreed to conduct a survey to evaluate the employer's perspective regarding policies, training, and other related issues on workplace violence prevention, including risk factors associated with workplace violence and prevention strategies, in workplaces within the United States.

The findings of the survey will allow characterization of how the issue of workplace violence is being addressed in workplaces and may be useful to identify where educational interventions and prevention strategies are needed.

Ira L. Mills,
Departmental Clearance Officer.

[FR Doc. 05-5148 Filed 3-15-05; 8:45 am]

BILLING CODE 4510-24-P